ENVIRONMENTAL PROTECTION AGENCY

[FRL-8687-8; Docket ID No: EPA-RO8-OW-2008]

Public Water System Supervision Program Variance and Exemption Review for the State of Montana

AGENCY: Environmental Protection Agency (EPA).

ACTION: Notice of results review.

SUMMARY: The Environmental Protection Agency, Region 8 has completed its statutory review of variances and exemptions issued by the State of Montana under the Safe Drinking Water Act (SDWA) Public Water System Supervision (PWSS) program. This review was announced in the Federal Register published February 21, 2008 (“73 FR 9567”), and provided the public with an opportunity to comment. No comments related to Variances and/or Exemptions issued or proposed by the State of Montana were received.

The Environmental Protection Agency, Region 8 determined as a result of this review that the State of Montana did not abuse its discretion on any variance or exemption granted or proposed as of the date of its on-site review on April 28, 2008.

FOR FURTHER INFORMATION CONTACT: Eric Finke at 406-457-5026 or e-mail at Finke.Eric@epa.gov.

SUPPLEMENTARY INFORMATION: Montana has an EPA approved program for assuming primary enforcement authority for the PWSS program, pursuant to section 1413 of SDWA, 42 U.S.C. 300g-2 and 40 CFR Part 142.

A. Why Do States Issue Variances and Exemptions?

States with primary PWSS enforcement authority are authorized to grant variances and exemptions from National Primary Drinking Water Regulations due to particular situations with specific public water systems, providing these variances and exemptions meet the requirements of SDWA sections 1415 and 1416 and are protective of public health.

B. Why Is a Review of Variances and Exemptions Necessary?

Montana is authorized to grant variances and exemptions to drinking water systems in accordance with SDWA. The SDWA requires that EPA periodically conduct reviews on State-issued variances and exemptions to determine whether the State has abused its discretion or failed to prescribe schedules in accordance with the statute in a substantial number of cases, and publish the results of that review in the Federal Register. 42 U.S.C. 300g-4(e)(8); 42 U.S.C. 300g-5(d).

Dated: June 24, 2008.
Judith Wong,
Acting Deputy Regional Administrator, Region 8.

[FR Doc. E8-15147 Filed 7-2-08; 8:45 am]

BILLING CODE 6560-50-P